DEPARTMENT OF COMMERCE

National Oceanic and Atmospheric Administration

RIN 0648-XE049

Fisheries of the South Atlantic; South Atlantic Fishery Management Council (SAFMC); Public Meetings

AGENCY: National Marine Fisheries Service (NMFS), National Oceanic and Atmospheric Administration (NOAA), Commerce.

ACTION: The South Atlantic Fishery Management Council (Council) will hold a public scoping meeting for Amendment 37 and Regulatory Amendment 23 to the Fishery Management Plan for the Snapper Grouper Fishery of the South Atlantic Region.

SUMMARY: The Council will hold a scoping meeting via webinar on August 10, 2015 to solicit public input on management actions affecting the snapper grouper fishery.

Snapper Grouper Amendment 37 (Hogfish)

The Florida Fish and Wildlife Conservation Commission completed a stock assessment for hogfish in 2014 with data through 2012 (SEDAR 37 2014). The assessment took into account recent genetic evidence indicating that hogfish in the South Atlantic comprise two distinct stocks: Georgia through North Carolina (GA-NC) and Florida Keys & East Florida (FLK/EFL). Each assessment was then evaluated with regard to fishing level recommendations. The Council's Scientific and Statistical Committee developed catch level recommendations for the GA-NC stock using the Only Reliable Catch Stocks (ORCS) approach, as outlined in Level 4 of the Council's Acceptable Biological Catch (ABC) control rule. This approach is applied when there are not sufficient data on a stock or species to conduct a formal stock assessment. Consequently the approach relies only on landings data. For the FLK/EFL stock, the SSC considered the stock assessment to represent the best available science and recommended it for use in management. The assessment results indicate the FLK/EFL stock is undergoing overfishing and is overfished and, therefore, in need of a rebuilding plan.

Amendment 37 would address specifying the boundary between the FLK/EFL stock, managed by the South Atlantic Council, and the West Florida stock, managed by the Gulf of Mexico Council. This demarcation is necessary to manage the stocks separately and to aid in enforcing regulations. Amendment 37 also includes actions to specify Acceptable Biological Catch (ABC), Annual Catch Limits (ACLs), Annual Catch Targets (ACTs), and Optimum Yield (OY) for both the NC-GA and FLK/EFL stocks, establish a rebuilding plan for the FLK/EFL stock, and implement or modify management measures for both stocks to attain the desired level of harvest.

Snapper Grouper Regulatory Amendment 23 (Golden Tilefish, Black Sea Bass and the Jacks Complex)

Regulatory Amendment would include actions pertaining to management of the commercial golden tilefish fishery, recreational management measures for black sea bass, and commercial management measures for the Jacks Complex. The Council has indicated that the following items should be included in the amendment: (1) Modification to the fishing year start date for the hook-and-line component of the commercial golden tilefish fishery; (2) establishment of a commercial trip limit for the Jacks Complex; and (3) adjustment to the bag limit for black sea bass.

DATES: The scoping webinar will be held on Monday, August 10, 2015, beginning at 6 p.m. Registration is required. Information for registration, along with copies of the Scoping Documents for each amendment will be posted on the Council's Web site at www.safmc.net as it becomes available.

ADDRESSES: South Atlantic Fishery Management Council, 4055 Faber Place Drive, Suite 201, N. Charleston, SC 29405.

FOR FURTHER INFORMATION CONTACT: Myra Brouwer, Fishery Biologist, SAFMC; phone: (843) 571-4366 or toll free: (866) SAFMC-10; fax: (843) 769-4520; email: myra.brouwer@safmc.net.

SUPPLEMENTARY INFORMATION: During the Webinar, Council staff will present an overview of each amendment and answer questions. Written comments may be mailed to Bob Mahood, Executive Director, SAFMC (see ADDRESSES); emailed to Mike.Collins@safmc.net (please indicate appropriate amendment in subject line); or faxed (see ADDRESSES). Comments on Amendment 37 and Regulatory Amendment 23 will be accepted until 5 p.m. on August 17, 2015.

Special Accommodations

The meeting is physically accessible to people with disabilities. Requests for auxiliary aids should be directed to the Council office (see ADDRESSES) 3 days prior to the meeting.

Note: The times and sequence specified in this agenda are subject to change.

Dated: July 21, 2015.
Tracey L. Thompson,
Acting Deputy Director, Office of Sustainable Fisheries, National Marine Fisheries Service.

[FR Doc. 2015-18265 Filed 7-24-15; 8:45 am]

BILLING CODE 3510-22-P